DEPARTMENT OF THE INTERIOR

Bureau of Land Management

[NM-044-1430-ET; OKNM 36236]

Public Land Order No. 7518; Extension of Public Land Order No. 6183; Oklahoma

AGENCY: Bureau of Land Management, Interior.

ACTION: Public Land Order.

SUMMARY: This order extends Public Land Order No. 6183 for an additional 20-year period. This extension is necessary to continue the protection of the land for use by the Department of the Army for military purposes at Fort Sill, Oklahoma.

EFFECTIVE DATE: March 8, 2002.

FOR FURTHER INFORMATION CONTACT: Clarence F. Hougland, BLM New Mexico State Office, P.O. Box 27115, Santa Fe, New Mexico, 505-438-7593.

SUPPLEMENTARY INFORMATION: By virtue of the authority vested in the Secretary of the Interior by Section 204 of the Federal Land Policy and Management Act of 1976, 43 U.S.C. 1714 (1994), it is ordered as follows:

1. Public Land Order No. 6183 (47 FR 9842, March 8, 1982), which withdrew land from use by the Department of the Army, is hereby extended for an additional 20-year period.

2. Public Land Order No. 6183 will expire March 7, 2022, unless, as a result of a review conducted before the expiration date pursuant to Section 204(f) of the Federal Land Policy and Management Act of 1976, 43 U.S.C. 1714(f) (1994), the Secretary determines that the withdrawal shall be extended.

Dated: February 28, 2002.
Rebecca W. Watson,
Assistant Secretary for Land and Minerals Management.

[FR Doc. 02-6231 Filed 3-14-02; 8:45 am]

BILLING CODE 4310-FB-P